DEPARTMENT OF HEALTH AND HUMAN SERVICES

Announcement of Requirements and Registration for “Using Public Data for Cancer Prevention and Control: From Innovation to Impact Challenge”

AGENCY: Office of the National Coordinator for Health Information Technology, HHS.

ACTION: Notice.

Authority: 15 U.S.C. 3719.

SUMMARY: “Using Public Data for Cancer Prevention and Control: From Innovation to Impact Challenge” is a challenge aimed at encouraging multidisciplinary teams of software developers, entrepreneurs, and health scientists to use health-related data made available by the National Cancer Institute (NCI) and other Federal agencies to create innovative consumer health applications that will provide actionable steps for consumers along the cancer control and prevention continuum. This challenge will provide useful tools for public health promotion and protection, a key goal of the U.S. Department of Health and Human Services.

The statutory authority for this challenge competition is Section 105 of the America COMPETES Reauthorization Act of 2010 (Pub. L. 111-358).

DATES: Effective on July 15, 2011.

FOR FURTHER INFORMATION CONTACT: Adam Wong, 202-720-2866. Wil Yu, 202-690-5920.

SUPPLEMENTARY INFORMATION: Subject of Challenge Competition: Entrants in “Using Public Data for Cancer Prevention and Control: From Innovation to Impact Challenge” are asked to develop software applications (apps) that utilize the wide array of health-related data made available by the NCI Division of Cancer Control and Population Sciences (DCCPS) and other Federal agencies for innovative consumer health apps. These apps should potentially integrate with existing technology platforms and address targets comprising DCCPS priority areas on the continuum of cancer prevention and control. More information about these priority areas can be found at: http://cancercontrol.cancer.gov/od/index.html. Entrants are required to address challenges faced by consumers, clinicians, or researchers such as behavior risk reduction for prevention, survivorship (e.g., nutrition, physical activity, smoking cessation), early detection and screening, informed decision-making, and adherence to treatment regimens.

Eligibility Rules for Participating in the Competition

To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

Participants shall be required to obtain liability insurance or demonstrate financial responsibility, in amounts determined by the head of the Office of the National Coordinator for Health Information Technology, for claims by—

(1) A third party for death, bodily injury, or property damage, or loss resulting from an activity carried out in connection with participation in a competition, with the Federal Government named as an additional insured under the registered participant's insurance policy and registered participants agreeing to indemnify the Federal Government against third party claims for damages arising from or related to competition activities; and

(2) the Federal Government for damage or loss to Government property resulting from such an activity.

Participants must be teams of at least two people.

All participants are required to provide written consent to the rules upon or before submitting an entry.

DATES:

Phase I

• Submission Period Begins: 12:01am, EDT, July 15th, 2011.

• Submission Period for Initial Entries Ends: 11:59 pm, EDT, August 26th, 2011.

Phase II:

• Final Submission Period Begins: 12:01am, E.D.T., October 3rd, 2011.

• Final Submission Period Ends: 11:59pm, E.S.T., November 18th, 2011.

Registration Process for Participants

To register for this challenge participants should:

• Access the http://www.challenge.gov Web site and search for the “Using Public Data for Cancer Prevention and Control: From Innovation to Impact Challenge”.

• Access the ONC Investing in Innovation (i2) Challenge Web site at:

○ http://www.health2challenge.org/category/onc/.

○ A registration link for the challenge can be found on the landing page under the challenge description.

Amount of the Prize

Phase I

• Four semi-finalists will receive prizes of $10,000 each.

Phase II

• Two finalist teams will receive awards of $20,000 each.

Awards may be subject to Federal income taxes and HHS will comply with IRS withholding and reporting requirements, where applicable.

Basis Upon Which Winner Will Be Selected

The judging panel will make selections based upon the following criteria:

1. Impact on cancer prevention and control.

2. Use of cancer-related data.

3. Integration with existing health records.

4. Innovation.

5. Usability.

Additional Information

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Dated: July 18, 2011.
Farzad Mostashari,
National Coordinator for Health Information Technology.

[FR Doc. 2011-18728 Filed 7-25-11; 8:45 am]

BILLING CODE 4150-45-